DEPARTMENT OF ENERGY

Office of Energy Efficiency and Renewable Energy

Biomass Research and Development Technical Advisory Committee

AGENCY: Department of Energy, Office of Energy Efficiency and Renewable Energy.

ACTION: Notice of Open Meeting.

SUMMARY: This notice announces an open meeting of the Biomass Research and Development Technical Advisory Committee under the Biomass Research and Development Act of 2000.

The Federal Advisory Committee Act (Pub. L. No. 92-463, 86 Stat. 770) requires that agencies publish these notices in the Federal Register to allow for public participation. This notice announces the meeting of the Biomass Research and Development Technical Advisory Committee.

Dates and Times: September 10, 2007, at 11 a.m. to 5 p.m.

Addresses: Westin Detroit Metropolitan Airport, 2501 Worldgateway Place, Rooms 8 & 9, Detroit, Michigan 48242, Phone: (734) 942-6500.

Dates and Times: September 11, 2007, at 8 a.m. to 2:30 p.m.

Addresses: GM Renaissance Center, 300 Renaissance Center, Room 9/10, Detroit, Michigan 48265, Phone: (248) 456-3198.

FOR FURTHER INFORMATION CONTACT: Valri Lightner, Designated Federal Officer for the Committee, Office of Energy Efficiency and Renewable Energy, U.S. Department of Energy, 1000 Independence Avenue, SW., Washington, DC 20585; (202) 586-0937 or Michael Manella at (410) 997-7778 * 217; E-mail: mmanella@bcs-hq.com.

SUPPLEMENTARY INFORMATION: Purpose of Meeting: To provide advice and guidance that promotes research and development leading to the production of biobased fuels and biobased products.

Tentative Agenda: Agenda will include the following:

• Update on Biomass R&D Board Activities.

• Peer Review.

• Transition Modeling Efforts: Biomass Program, DOE.

• Agency Responses to the Committee's 2002-06 Annual Recommendations.

• Update on 2007 Farm Bill.

• Update on 2007 Joint Solicitation Projects.

• Update Energy Counsel (USDA) Reorganization.

• Update on Energy Matrix.

• Results of 9008.

• Presentation Past Joint Solicitation Projects: Dr. Bruce Dale, Dept. of Chemical Engineering & Materials Science, Michigan State University.

• Presentation on Biomass Investments: Bill Lese, Braemar Ventures.

• Discussion: Subcommittees.

• Discussion: Updated Roadmap with 20 in 10 write-in.

• Presentation: Wood-to-Wheels, Michigan Tech University: Dr. David D. Reed, Vice President for Research, Michigan Tech University.

• Presentation: Life Cycle Analysis for Biofuels—Michael Wang, Argonne National Laboratory.

• Discussion: Approve FY 2007 Recommendations to the Secretaries Review of the 2008 Work Plan.

Public Participation: In keeping with procedures, members of the public are welcome to observe the business of the Biomass Research and Development Technical Advisory Committee. To attend the meeting and/or to make oral statements regarding any of the items on the agenda, you should contact Valri Lightner at 202-586-0937 or mmanella@bcs-hq.com. You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC on August 14, 2007.
Rachel Samuel,
Deputy Committee Management Officer.

[FR Doc. E7-16228 Filed 8-16-07; 8:45 am]

BILLING CODE 6450-01-P